DEPARTMENT OF HEALTH AND HUMAN SERVICES

Centers for Disease Control and Prevention

[30Day-78-03]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503, or by fax to (202) 395-6974. Written comments should be received within 30 days of this notice.

Proposed Project: National Public Health Performance Standards Program Local Public Health Governance Performance Assessment Instrument—Revision—Public Health Practice Program Office (PHPPO), Centers for Disease Control and Prevention (CDC).

CDC received approval for this data collection February 19, 2002. This request seeks approval for a revised evaluation document. The previous instrument included 23 open-ended questions. The revised instrument includes 13 questions, the majority of which are close-ended. This revised instrument will provide us better data for the purposes of analysis and elicit more valuable information for improving the instruments in the future. Additionally, the revised evaluation is similar to the evaluations included in the State Public Health System and Local Public Health System Performance Assessment Instruments (0920-0557 and 0920-0555), thus offering more opportunities for cross-analysis.

Background

Since 1998, the CDC National Public Health Performance Standards Program has convened workgroups with the National Association of County and City Health Officials (NACCHO), the Association of State and Territorial Health Officials (ASTHO), the National Association of Local Boards of Health (NALBOH), the American Public Health Association (APHA), and the Public Health Foundation (PHF) to develop performance standards for public health systems based on the ten Essential Services of Public Health. In the Spring of 2001, CDC conducted field tests with the local public health governance instruments in the State of Massachusetts.

CDC received approval to implement a voluntary data collection to assess the capacity of local boards of health to deliver the Essential Public Health Services. This data collection will provide a framework for local boards of health to evaluate their effectiveness. Electronic data submission will be the method of choice. If computer technology in local jurisdictions does not support electronic submission, hard copy survey instruments will be available. Local jurisdictions using hard copy survey instruments will receive assistance from State or local level field coordinators for web-based data entry.

Local boards of health will respond to the survey. An estimated 33% of approximately 3,200 United States local boards are expected to participate in the National Performance Standards Program per year. The burden hours are estimated to be 19,200.

Respondents | Number of respondents | Number of responses/ respondent | Average burden/ response (in hrs.)
Local Boards of Health Year 1 | 1,066 | 1 | 6
Local Boards of Health Year 2 | 1,067 | 1 | 6
Local Boards of Health Year 3 | 1,067 | 1 | 6

Dated: Friday, October 14, 2003.
Gaylon D. Morris,
Acting Director, Executive Secretariat, Centers for Disease Control and Prevention.

[FR Doc. 03-26987 Filed 10-28-03; 8:45 am]

BILLING CODE 4163-18-P